DEPARTMENT OF THE INTERIOR

National Park Service

36 CFR Part 13

[NPS-AKRO-23925; PPAKAKROZ5, PPMPRLE1Y.L00000]

Alaska; Hunting and Trapping in National Preserves

AGENCY: National Park Service, Interior.

ACTION: Regulatory review.

SUMMARY: The National Park Service (NPS) intends to initiate a rulemaking process that will consider changes to regulations applicable to Alaska that were promulgated in October 2015.

DATES: November 15, 2017.

ADDRESSES: The final rule that is the subject of this announcement may be found at www.regulations.gov in Docket No. NPS-2014-0004-2632.

FOR FURTHER INFORMATION CONTACT: Andee Sears, Regional Law Enforcement Specialist, Alaska Regional Office, 240 West 5th Ave., Anchorage, AK 99501. Phone (907) 644-3410. Email: AKR_Regulations@nps.gov.

SUPPLEMENTARY INFORMATION: On October 23, 2015, the NPS published a final rule (Final Rule) to amend its regulations for sport hunting and trapping in national preserves in Alaska (80 FR 65325). The Final Rule provided that the NPS does not adopt State of Alaska management actions or laws or regulations that authorize taking of wildlife, which are related to predator reduction efforts (as defined in the Final Rule). The Final Rule affirmed current State prohibitions on harvest practices by adopting them as federal regulation. The Final Rule also changed procedures for closing an area or restricting an activity in NPS areas in Alaska; updated obsolete subsistence regulations; prohibited obstructing persons engaged in lawful hunting or trapping; and authorized the use of native species as bait for fishing. Pursuant to the Congressional Review Act (CRA), the NPS submitted copies of the final rule to Congress on October 16, 2015. A joint resolution of disapproval was not filed by Congress within the time periods specified by the CRA. The Final Rule became effective on November 23, 2015.

The NPS intends to initiate a rulemaking process that will consider changes to the provisions in the Final Rule that were codified in 36 CFR part 13. Throughout this process, the NPS will consider the purpose of Secretarial Order 3347 (“Conservation Stewardship and Outdoor Recreation”) to advance conservation stewardship and increase outdoor recreation opportunities, including hunting and fishing, for all Americans. The NPS will also identify ways to improve recreational hunting and fishing cooperation, consultation, and communication with State of Alaska wildlife managers. The NPS will comply with all applicable laws governing the rulemaking process, including the requirement to provide an opportunity for public comment on any proposed regulatory changes under 5 U.S.C. 553. The NPS is not accepting comments on this announcement. The public will have an opportunity to comment when a proposed rule is published in the Federal Register.

Authority: 16 U.S.C. 3124; 54 U.S.C. 100101, 100751, 320102; Sec. 13.1204 also issued under Sec. 1035, Pub. L. 104-333, 110 Stat. 4240.

Jason Larrabee,
Principal Deputy Assistant Secretary for Fish and Wildlife and Parks.

[FR Doc. 2017-24444 Filed 11-14-17; 8:45 am]

BILLING CODE 4312-52-P